DEPARTMENT OF TRANSPORTATION

Coast Guard

33 CFR Part 117

[CGD08-02-005]

Drawbridge Operating Regulation; Pascagoula River, Mississippi

AGENCY: Coast Guard, DOT.

ACTION: Notice of temporary deviation from regulations.

SUMMARY: The Commander, Eighth Coast Guard District has issued a temporary deviation from the regulation governing the operation of the CSX Transportation railroad bascule span drawbridge across the Pascagoula River, mile 1.5 at Pascagoula, Mississippi. This deviation allows the draw of the railroad bascule span bridge to remain closed to navigation from 8 a.m. until 5 p.m. on March 18, 2002. This temporary deviation will allow for rewiring the electrical components of the operating mechanism.

DATES: This deviation is effective from 8 a.m. until 5 p.m. on Monday, March 18, 2002.

ADDRESSES: Unless otherwise indicated, documents referred to in this notice are available for inspection or copying at the office of the Eighth Coast Guard District, Bridge Administration Branch, Commander (obc), 501 Magazine Street, New Orleans, Louisiana, 70130-3396. The Bridge Administration Branch maintains the public docket for this temporary deviation.

FOR FURTHER INFORMATION CONTACT: Phil Johnson, Bridge Administration Branch, telephone (504) 589-2965.

SUPPLEMENTARY INFORMATION: The CSX Transportation railroad bascule span drawbridge across the Pascagoula River, mile 1.5 at Pascagoula, Mississippi has a vertical clearance in the closed-to-navigation position of 0.8 feet above mean high water and 2.4 feet above mean low water. The bridge provides unlimited vertical clearance in the open-to-navigation position. Navigation on the waterway consists of small cargo ships, tugs with tows, fishing vessels and recreational craft including sailboats and power boats. Presently, the draw opens on signal.

CSX Transportation requested a temporary deviation for the operation of the drawbridge to accommodate maintenance work. The work involves replacement of the deficient wiring in the electrical system of the operating mechanism. This work is essential for continued operation of the draw span of the bridge and is expected to eliminate frequent breakdowns resulting in emergency bridge closures.

This deviation allows the draw of the CSX Transportation railroad bascule span drawbridge to remain closed to navigation from 8 a.m. until 5 p.m. on March 18, 2002.

Dated: March 8, 2002.
J.R. Whitehead,
Captain, U.S. Coast Guard, Commander, 8th Coast Guard Dist., Acting.

[FR Doc. 02-6362 Filed 3-15-02; 8:45 am]

BILLING CODE 4910-15-U